DEPARTMENT OF TRANSPORTATION

Federal Aviation Administration

14 CFR Part 71

[Docket No. FAA-2015-1345; Airspace Docket No. 14-AWP-13]

RIN 2120-AA66

Proposed Establishment of Multiple Air Traffic Service (ATS) Routes; Western United States

AGENCY: Federal Aviation Administration (FAA), DOT.

ACTION: Notice of proposed rulemaking (NPRM).

SUMMARY: This action proposes to establish 13 high altitude Area Navigation (RNAV) routes (Q-routes), and one low altitude RNAV route (T-route) in the western United States. The routes would promote operational efficiencies for users and provide connectivity to current and proposed RNAV en route and terminal procedures.

DATES: Comments must be received on or before July 20, 2015.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2015-1345 and Airspace Docket No. 14-AWP-13 at the beginning of your comments. You may also submit comments through the Internet at http://www.regulations.gov.

FOR FURTHER INFORMATION CONTACT: Jason Stahl, Airspace Policy and Regulations Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify the route structure in the western U.S. to preserve the safe and efficient flow of air traffic within the NAS.

Background

The development of new RNAV Standard Instrument Departure (SID) and Standard Terminal Arrival (STAR) routes requires incorporation of these proposed Q and T routes into the NAS Route Structure in order to maximize the benefits of increased safety in high volume en route sectors.

The Los Angeles Air Route Traffic Control Center (ARTCC) currently does not have routes that join the Performance Based Navigation (PBN) arrival and departure procedures. The existing conventional jet route structure does not serve the new SID/STAR designs. Routes made up of ground based navigational aids are not capable of delivering aircraft onto the RNAV based arrival and departure procedures in an efficient manner. Developing these predictable and repeatable flight paths (Q and T routes) through a complex area confined by restricted areas will improve throughput and safety for Los Angeles ARTCC.

This first phase of a two phase project will align a network of Q-Routes with the new SID's and STAR's. The Q-Route structure is projected to optimize descent/climb profiles to/from several airports in southern California and create segregated arrival/departure paths to reduce airspace complexity.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2015-1345 and Airspace Docket No. 14-AWP-13) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2015-1345 and Airspace Docket No. 14-AWP-13.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Western Service Center, Operations Support Group, Federal Aviation Administration, 1601 Lind Ave SW., Renton, WA 98057.

Persons interested in being placed on a mailing list for future NPRMs should contact the FAA's Office of Rulemaking, (202) 267-9677, for a copy of Advisory Circular No. 11-2A, Notice of Proposed Rulemaking Distribution System, which describes the application procedure.

Availability and Summary of Documents for Incorporation by Reference

This document proposes to amend FAA Order 7400.9Y, airspace Designations and Reporting Points, dated August 6, 2014, and effective September 15, 2014. FAA Order 7400.9Y is publicly available as listed in the ADDRESSES section of this proposed rule. FAA Order 7400.9Y lists Class A, B, C, D, and E airspace areas, air traffic service routes, and reporting points.

The Proposal

The FAA is proposing an amendment to Title 14, Code of Federal Regulations (14 CFR) part 71 to establish U.S. RNAV routes Q-70, Q-73, Q-74, Q-78, Q-86, Q-88, Q-90, Q-94, Q-96, Q-98, Q-114, Q-168, T-326, and Q-842, which is an extension of a current Canadian RNAV route and therefore retains the Canadian numbering. The proposed routes would connect to new SID and STAR procedures as designed in the Southern California (SoCal) Metroplex. The proposed routes are outlined below.

Q-70: Q-70 is proposed from the HAILO, CA, waypoint (WP) to the SAKES, UT, WP to support departures from Los Angeles basin airports to the northeast.

Q-73: Q-73 would be established from the MOMAR, CA, WP to the CORDU, ID, WP to accommodate arrivals to San Diego airport.

Q-74: Q-74 is proposed from the NATEE, NV, WP to the DEANN, UT, WP and would support arrivals to John Wayne, Long Beach and Ontario airports from the northeast.

Q-78: Q-78 would be established from the MARUE, NV, WP to the TOADD, AZ, WP to support arrivals to John Wayne, Long Beach and Ontario airports from the east and northeast.

Q-86: Q-86 is proposed from the TTRUE, AZ, WP to the PLNDL, AZ, WP for arrivals to San Diego and Ontario airports from the east.

Q-88: Q-88 would be established from the HAKMN, NV, WP to the CHESZ, UT, WP to support Los Angeles airport arrivals from the northeast.

Q-90: Q-90 is proposed from the DNERO, CA, WP to the JASSE, AZ, WP and would be the primary RNAV route to Los Angeles from Denver ARTCC.

Q-94: Q-94 is proposed from the WELUM, NV, WP to the ROOLL, AZ, WP to support Denver ARTCC arrivals to Burbank, Van Nuys, Camarillo, and Oxnard airports.

Q-96: Q-96 would be established from the PURSE, NV, WP to the KIMMR, UT, WP to support arrivals to Burbank, Van Nuys, Camarillo, and Oxnard airports from the Salt Lake ARTCC.

Q-98: Q-98 is proposed from the HAKMN, NV, WP to the PEEWE, AZ, WP to support Denver ARTCC arrivals to Los Angeles and San Diego airports.

Q-114: Q-114 would extend from the NATEE, NV, WP to the BUGGG, UT, WP to support Salt Lake ARTCC arrivals to Long Beach, Ontario, and Orange County airports.

Q-168: Q-168 would extend from the FNNDA, CA, WP to the JASSE, AZ, WP and would be the primary arrival route for Los Angeles airport from the Denver ARTCC.

Q-842: Existing Canadian route Q-842 would extend south into U.S. airspace. The proposed route would begin at the BEALE, NV, WP and extend north to the existing TOVUM, AB, WP in Canada. This would provide routing for departures from Los Angeles, Long Beach, Ontario, and Orange County airports to airports in Calgary and Edmonton, Canada.

T-326: Finally, this rule would establish low altitude RNAV route T-326, from the Mission Bay, CA, VORTAC (MZB) to the Imperial, CA, VORTAC (IPL) to transition from the San Diego area to the east, remaining south of restricted airspace R-2510 and the Kane Military Operations Area (MOA).

High altitude United States RNAV routes are published in paragraph 2006, high altitude Canadian RNAV routes are published in paragraph 2007, and low altitude United States RNAV routes are published in paragraph 6011 of FAA Order 7400.9Y dated August 6, 2014, and effective September 15, 2014, which is incorporated by reference in 14 CFR 71.1. The high altitude United States RNAV routes (Q-routes), low altitude United States RNAV routes (T-routes), and high altitude Canadian RNAV routes listed in this document would be subsequently published in the Order.

Regulatory Notices and Analyses

The FAA has determined that this proposed regulation only involves an established body of technical regulations for which frequent and routine amendments are necessary to keep them operationally current. Therefore, this proposed regulation: (1) Is not a “significant regulatory action” under Executive Order 12866; (2) is not a “significant rule” under Department of

Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 2006. United States Area Navigation Routes

* * * * *

Q-70 HAILO, CA to SAKES, UT (New)
HAILO, CA | WP | (Lat. 35°38′14.00″ N., long. 115°58′16.00″ W.)
LAS, NV | VOR | (Lat. 36°04′46.93″ N., long. 115°09′35.27″ W.)
IFEYE, NV | WP | (Lat. 36°24′56.04″ N., long. 114°47′49.32″ W.)
BLIPP, NV | WP | (Lat. 36°42′41.31″ N., long. 114°28′26.45″ W.)
EEVUN, UT | WP | (Lat. 37°02′52.90″ N., long. 113°42′42.56″ W.)
BLOBB, UT | WP | (Lat. 37°17′45.63″ N., long. 113°06′52.16″ W.)
BAWER, UT | WP | (Lat. 37°38′06.68″ N., long. 112°16′45.89″ W.)
SAKES, UT | WP | (Lat. 38°50′00.51″ N., long. 110°16′16.52″ W.)
* * * * *
Q-73 MOMAR, CA to CORDU, ID (New)
MOMAR, CA | WP | (Lat. 33°30′54.13″ N., long. 115°56′40.14″ W.)
CABIC, CA | WP | (Lat. 33°46′17.01″ N., long. 115°49′28.71″ W.)
CHADT, CA | WP | (Lat. 33°55′18.49″ N., long. 115°45′03.26″ W.)
LVELL, CA | WP | (Lat. 34°12′37.38″ N., long. 115°36′53.25″ W.)
HAKMN, NV | WP | (Lat. 35°30′28.31″ N., long. 115°04′47.04″ W.)
ZZYZX, NV | WP | (Lat. 35°39′53.52″ N., long. 114°51′54.99″ W.)
LAKRR, AZ | WP | (Lat. 36°05′07.72″ N., long. 114°17′09.16″ W.)
GUNTR, AZ | WP | (Lat. 36°24′39.65″ N., long. 114°02′11.55″ W.)
ZAINY, AZ | WP | (Lat. 36°39′24.73″ N., long. 113°54′03.50″ W.)
EEVUN, UT | WP | (Lat. 37°02′52.90″ N., long. 113°42′42.56″ W.)
WINEN, UT | WP | (Lat. 37°56′00.00″ N., long. 113°30′00.00″ W.)
CRITO, NV | WP | (Lat. 39°18′00.00″ N., long. 114°33′00.00″ W.)
BROPH, ID | WP | (Lat. 42°43′15.71″ N., long. 114°52′31.80″ W.)
DERSO, ID | FIX | (Lat. 43°21′42.63″ N., long. 115°08′01.66″ W.)
SAWTT, ID | WP | (Lat. 44°37′35.52″ N., long. 115°43′55.55″ W.)
HELLS, ID | WP | (Lat. 45°25′07.35″ N., long. 116°07′15.53″ W.)
ZATIP, ID | WP | (Lat. 46°13′17.48″ N., long. 116°31′37.57″ W.)
CORDU, ID | WP | (Lat. 48°10′46.10″ N., long. 116°40′21.84″ W.)
Q-74 NATEE, NV to DEANN, UT (New)
NATEE, NV | WP | (Lat. 35°37′14.00″ N., long. 115°22′26.00″ W.)
BLD, NV | VOR | (Lat. 35°59′44.84″ N., long. 114°51′48.88″ W.)
ZAINY, AZ | WP | (Lat. 36°39′24.73″ N., long. 113°54′03.50″ W.)
FIZZL, AZ | WP | (Lat. 36°56′03.37″ N., long. 113°16′23.91″ W.)
GARDD, UT | WP | (Lat. 37°03′12.91″ N., long. 112°37′54.38″ W.)
DEANN, UT | WP | (Lat. 37°12′34.00″ N., long. 111°42′47.00″ W.)
Q-78 MARUE, NV to TOADD, AZ (New)
MARUE, NV | WP | (Lat. 35°15′23.00″ N., long. 114°52′55.00″ W.)
DUGGN, AZ | WP | (Lat. 35°44′06.83″ N., long. 113°23′24.52″ W.)
TOADD, AZ | WP | (Lat. 36°17′45.60″ N., long. 111°30′37.21″ W.)
* * * * *
Q-86 TTRUE, AZ to PLNDL, AZ (New)
TTRUE, AZ | WP | (Lat. 34°38′01.53″ N., long. 114°23′05.05″ W.)
YORRK, AZ | WP | (Lat. 34°52′03.23″ N., long. 113°55′58.14″ W.)
SCHLS, AZ | WP | (Lat. 35°14′18.55″ N., long. 113°09′42.77″ W.)
CUTRO, AZ | WP | (Lat. 35°36′16.98″ N., long. 112°23′00.00″ W.)
VALEQ, AZ | WP | (Lat. 35°44′01.73″ N., long. 112°06′31.44″ W.)
PLNDL, AZ | WP | (Lat. 35°50′17.43″ N., long. 111°52′40.71″ W.)
Q-88 HAKMN, NV to CHESZ, UT (New)
HAKMN, NV | WP | (Lat. 35°30′28.31″ N., long. 115°04′47.04″ W.)
ZZYZX, NV | WP | (Lat. 35°39′53.52″ N., long. 114°51′54.99″ W.)
LAKRR, NV | WP | (Lat. 36°05′07.72″ N., long. 114°17′09.16″ W.)
NOOTN, AZ | WP | (Lat. 36°37′32.63″ N., long. 113°20′40.25″ W.)
GARDD, UT | WP | (Lat. 37°03′12.91″ N., long. 112°37′54.38″ W.)
VERKN, UT | WP | (Lat. 37°23′00.05″ N., long. 112°04′21.69″ W.)
PROMT, UT | WP | (Lat. 37°30′06.70″ N., long. 111°52′12.94″ W.)
CHESZ, UT | WP | (Lat. 38°16′59.03″ N., long. 110°02′11.31″ W.)
Q-90 DNERO, CA to JASSE, AZ (New)
DNERO, CA | WP | (Lat. 35°02′07.14″ N., long. 114°54′16.39″ W.)
ESGEE, NV | WP | (Lat. 35°08′00.50″ N., long. 114°37′21.64″ W.)
AREAF, AZ | WP | (Lat. 35°36′31.77″ N., long. 113°13′50.46″ W.)
JASSE, AZ | WP | (Lat. 36°04′15.53″ N., long. 111°48′45.81″ W.)
Q-94 WELUM, NV to ROOLL, AZ (New)
WELUM, NV | WP | (Lat. 35°22′56.00″ N., long. 114°55′59.00″ W.)
MNGGO, AZ | WP | (Lat. 35°51′13.55″ N., long. 113°28′23.59″ W.)
ROOLL, AZ | WP | (Lat. 36°27′37.93″ N., long. 111°28′54.98″ W.)
Q-96 PURSE, NV to KIMMR, UT (New)
PURSE, NV | WP | (Lat. 35°34′54.00″ N., long. 115°11′53.00″ W.)
DODDL, NV | WP | (Lat. 35°49′28.80″ N., long. 114°51′51.29″ W.)
BFUNE, AZ | WP | (Lat. 36°06′10.73″ N., long. 114°28′40.09″ W.)
GUNTR, AZ | WP | (Lat. 36°24′39.65″ N., long. 114°02′11.55″ W.)
PIIXR, AZ | WP | (Lat. 36°36′29.27″ N., long. 113°45′02.40″ W.)
FIZZL, AZ | WP | (Lat. 36°56′03.37″ N., long. 113°16′23.91″ W)
BAWER, UT | WP | (Lat. 37°38′06.68″ N., long. 112°16′45.89″ W.)
ROCCY, UT | WP | (Lat. 37°49′41.63″ N., long. 111°59′59.84″ W.)
SARAF, UT | WP | (Lat. 38°36′03.84″ N., long. 110°53′24.20″ W.)
KIMMR, UT | WP | (Lat. 39°13′45.24″ N., long. 109°57′30.10″ W.)
Q-98 HAKMN, NV to PEEWE, AZ (New)
HAKMN, NV | WP | (Lat. 35°30′28.31″ N., long. 115°04′47.04″ W.)
ZZYZX, NV | WP | (Lat. 35°39′53.52″ N., long. 114°51′54.99″ W.)
LAKRR, NV | WP | (Lat. 36°05′07.72″ N., long. 114°17′09.16″ W.)
DUZIT, AZ | WP | (Lat. 36°24′51.20″ N., long. 113°24′51.53″ W.)
EEEZY, AZ | WP | (Lat. 36°44′33.18″ N., long. 112°21′40.77″ W.)
PEEWE, AZ | WP | (Lat. 36°58′08.69″ N., long. 111°36′40.81″ W.)
* * * * *
Q-114 NATEE, NV to BUGGG, UT (New)
NATEE, NV | WP | (Lat. 35°37′14.00″ N., long. 115°22′26.00″ W.)
BLD, NV | VOR | (Lat. 35°59′44.84″ N., long. 114°51′48.88″ W.)
ZAINY, AZ | WP | (Lat. 36°39′24.73″ N., long. 113°54′03.50″ W.)
AHOWW, UT | WP | (Lat. 37°07′14.56″ N., long. 113°11′34.04″ W.)
BAWER, UT | WP | (Lat. 37°38′06.68″ N., long. 112°16′45.89″ W.)
BUGGG, UT | WP | (Lat. 38°39′18.31″ N., long. 109°29′48.01″ W.)
* * * * *
Q-168 FNNDA, CA to JASSE, AZ (New)
FNNDA, CA | WP | (Lat. 34°45′14.96″ N., long. 114°45′18.49″ W.)
SHIVA, AZ | WP | (Lat. 34°58′12.28″ N., long. 114°17′24.65″ W.)
KRINA, AZ | WP | (Lat. 35°28′02.52″ N., long. 113°11′35.60″ W.)
JASSE, AZ | WP | (Lat. 36°04′15.53″ N., long. 111°48′45.81″ W.)

* * * * *

Paragraph 2007. Canadian Area Navigation Routes

Q-842 BEALE, NV to TOVUM, AB Canada (New)
BEALE, NV | WP | (Lat. 36°10′56.60″ N., long. 114°49′34.81″ W.)
BLIPP, NV | WP | (Lat. 36°42′41.31″ N., long. 114°28′26.45″ W.)
WINEN, UT | WP | (Lat. 37°56′00.00″ N., long. 113°30′00.00″ W.)
TABLL, UT | WP | (Lat. 38°39′56.31″ N., long. 113°10′35.15″ W.)
PICHO, UT | WP | (Lat. 39°58′00.00″ N., long. 112°35′00.00″ W.)
PATIO, UT | WP | (Lat. 41°16′00.00″ N., long. 112°32′00.00″ W.)
PROXI, UT | WP | (Lat. 41°58′20.81″ N., long. 112°31′33.79″ W.)
VAANE, ID | WP | (Lat. 45°18′12.53″ N., long. 112°44′58.36″ W.)
KEETA, MT | WP | (Lat. 47°20′39.01″ N., long. 112°52′51.46″ W.)
TOVUM, AB, Canada | WP | (Lat. 49°14′29.00″ N., long. 112°48′53.00″ W.)

Excluding the airspace within Canada.

* * * * *

Paragraph 6011. United States Area Navigation Routes

T-326 Mission Bay, CA to Imperial, CA (New)
Mission Bay, CA (MZB) | VORTAC | (Lat. 32°46′55.93″ N., long. 117°13′31.49″ W.)
HAILE, CA | WP | (Lat. 32°46′45.70″ N., long. 117°00′51.71″ W.)
BLLYJ, CA | WP | (Lat. 32°49′38.06″ N., long. 116°45′56.45″ W.)
STAXS, CA | WP | (Lat. 32°52′16.70″ N., long. 116°32′17.69″ W.)
GILYY, CA | WP | (Lat. 32°52′12.12″ N., long. 116°21′05.24″ W.)
KUMBA, CA | WP | (Lat. 32°45′43.18″ N., long. 116°03′13.37″ W.)
Imperial, CA (IPL) | VORTAC | (Lat. 32°44′55.92″ N., long. 115°30′30.90″ W.)

Issued in Washington, DC, on May 26, 2015.
Gary A. Norek,
Manager, Airspace Policy & Regulations Group.

[FR Doc. 2015-13504 Filed 6-4-15; 8:45 am]

BILLING CODE 4910-13-P